DEPARTMENT OF JUSTICE

Bureau of Alcohol, Tobacco, Firearms and Explosives

[OMB Number 1140-0032]

Agency Information Collection Activities; Proposed eCollection of eComments Requested; Records of Acquisition and Disposition, Collectors of Firearms

AGENCY: Bureau of Alcohol, Tobacco, Firearms and Explosives, Department of Justice.

ACTION: 30-Day notice.

SUMMARY: The Bureau of Alcohol, Tobacco, Firearms and Explosives (ATF), Department of Justice (DOJ) will submit the following information collection request to the Office of Management and Budget (OMB) for review and approval in accordance with the Paperwork Reduction Act of 1995.

DATES: Comments are encouraged and will be accepted for an additional 30 days until July 15, 2022.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Revision of a Currently Approved Collection.

(2) The Title of the Form/Collection: Records of Acquisition and Disposition, Collectors of Firearms.

(3) The agency form number, if any, and the applicable component of the Department sponsoring the collection:

Form number: None.

Component: Bureau of Alcohol, Tobacco, Firearms and Explosives, U.S. Department of Justice.

(4) Affected public who will be asked or required to respond, as well as a brief abstract:

Primary: Business or other for-profit.

Other: Individuals or households.

Abstract: This information collection is a recordkeeping requirement that allows Bureau of Alcohol, Tobacco, Firearms and Explosives personnel to inquire about acquisition and disposition (A&D) records for firearms, during the course of criminal investigations or government compliance inspections.

(5) An estimate of the total number of respondents and the amount of time estimated for an average respondent to respond: An estimated 114,001 respondents will prepare records for this collection once annually, and it will take each respondent approximately 3.05 hours to complete their responses.

(6) An estimate of the total public burden (in hours) associated with the collection: The estimated annual public burden associated with this collection is 347,703 hours, which is equal to 114,001 (total respondents) * 1 (# of response per respondent) * 3.05 hours (the total time taken to prepare each response).

(7) An Explanation of the Change in Estimates: The adjustment associated with this collection includes an increase in the total respondents and responses by 62,025, due to the addition of Type 01/02 firearms dealers and Type 03 firearms collectors. Consequently, the total burden hours have also increased by 189,176 since the last renewal in 2020.

If additional information is required contact: Robert J. Houser, Assistant Director, Policy and Planning Staff, Office of the Chief Information Officer, United States Department of Justice, Justice Management Division, Two Constitution Square, 145 N Street NE, Mail Stop 3.E-206, Washington, DC 20530.

Dated: June 9, 2022.
Robert Houser,
Assistant Director, Policy and Planning Staff, U.S. Department of Justice.

[FR Doc. 2022-12858 Filed 6-14-22; 8:45 am]

BILLING CODE 4410-FY-P